DEPARTMENT OF EDUCATION

List of Correspondence From July 1, 2012, Through September 30, 2012

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jill Harris or Mary Louise Dirrigl. Telephone: (202) 245-7372.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jill Harris or Mary Louise Dirrigl at (202) 245-7372.

SUPPLEMENTARY INFORMATION: The following list identifies correspondence from the Department issued from July 1, 2012, through September 30, 2012. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 612—State Eligibility

Topic Addressed: Children in Private Schools

○ Letter dated August 8, 2012, to Missoula County Public Schools Superintendent Alex P. Apostle, regarding how a local educational agency (LEA) can meet equitable services requirements for parentally-placed private school children with disabilities if student enrollment changes during the school year.

Section 613—Local Educational Agency Eligibility

Topic Addressed: Maintenance of Effort

○ Letter dated August 20, 2012, to Beth Swedeen, Lynn Breedlove, and Maureen Ryan, co-chairs of the Survival Coalition of Wisconsin Disability Organizations, regarding actions taken by the Wisconsin Department of Public Instruction to ensure compliance with the LEA maintenance of effort requirement.

○ Letter dated September 7, 2012, to New Mexico Public Education Department Assistant General Counsel Albert V. Gonzales, regarding the exception to the LEA maintenance of effort requirement due to the voluntary departure of special education or related services personnel, as permitted under Part B of the IDEA.

Section 614—Evaluations, Eligibility Determinations, Individualized Education Programs, and Educational Placements

Topic Addressed: Individualized Education Programs

○ Letter dated July 13, 2012, to U.S. Senator Patty Murray, regarding the individualized education program (IEP) requirements governing braille instruction for blind or visually impaired students.

○ Letter dated September 6, 2012, to New York attorney Arthur Ackerhalt, regarding an LEA's policy addressing start dates for providing related services during the school year.

Section 615—Procedural Safeguards

Topic Addressed: Impartial Due Process Hearings

○ Letter dated August 9, 2012, to Lewisville Independent School District Executive Director of Special Education Paula Walker, regarding parent participation in resolution meetings.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2013.
Michael Yudin,
Acting Assistant Secretary for Special Education and Rehabilitative Services.

[FR Doc. 2013-06074 Filed 3-14-13; 8:45 am]

BILLING CODE 4000-01-P